DEPARTMENT OF ENERGY

Federal Energy Regulatory Commission

[Docket No. RP04-31-000]

Gas Transmission Northwest Corporation; Notice of Proposed Change in FERC Gas Tariff

October 29, 2003.

Take notice that on October 22, 2003, Gas Transmission Northwest Corporation (GTN) tendered for filing First Revised Sheet No. 213 to be part of its FERC Gas Tariff, Third Revised Volume No. 1-A. GTN states that this sheet is being filed to clarify how firm shippers, with both evergreen rights and the right of first refusal, may exercise their right of first refusal. GTN requests that the Commission accept the proposed tariff sheet to be effective November 21, 2003.

GTN further states that a copy of this filing has been served on GTN's jurisdictional customers and interested State regulatory agencies.

Any person desiring to be heard or to protest said filing should file a motion to intervene or a protest with the Federal Energy Regulatory Commission, 888 First Street, NE., Washington, DC 20426, in accordance with § 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the “eFiling” link.

Magalie R. Salas,
Secretary.

[FR Doc. E3-00163 Filed 11-3-03; 8:45 am]

BILLING CODE 6717-01-P